DEPARTMENT OF HOMELAND SECURITY

Federal Emergency Management Agency

[Docket ID: FEMA-2017-0004; OMB No. 1660-0046]

Agency Information Collection Activities: Proposed Collection; Comment Request; Emergency Management Institute (EMI) Independent Study Course Enrollment Application and Test Answer Sheet

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning enrollment for students and score assessments for FEMA's Independent Study Program.

DATES: Comments must be submitted on or before March 20, 2017.

ADDRESSES: To avoid duplicate submissions to the docket, please use only one of the following means to submit comments:

(1) Online. Submit comments at www.regulations.gov under Docket ID FEMA-2017-0004. Follow the instructions for submitting comments.

(2) Mail. Submit written comments to Docket Manager, Office of Chief Counsel, DHS/FEMA, 500 C Street SW., 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Mark Magers, Instructional Systems Specialist, FEMA, PNP—Emergency Management Institute, at 301-447-1038. You may contact the Information Management Division for copies of the proposed collection of information at email address: FEMA-Information-Collections-Management@fema.dhs.gov.

SUPPLEMENTARY INFORMATION: FEMA's Emergency Management Institute (EMI) provides a wide variety of training to emergency management personnel throughout the country. The EMI Independent Study (IS) Program is part of the FEMA training program authorized under section 611(f) of the Robert T. Stafford Disaster Relief and Emergency Act, Public Law 93-288 as amended. These courses are offered online by EMI. The IS Program provides valuable training to Federal, State, local and Tribal emergency management personnel and the general citizenry of the United States without having to attend a resident course at EMI, or at a State-sponsored course. The IS program also includes a course on the National Incident Management System (NIMS). NIMS is our nation's incident management system. Homeland Security Presidential Directive 5, “Management of Domestic Incidents,” requires the adoption of NIMS by all Federal departments and agencies. This directive also requires that Federal preparedness assistance funding for States, Territories, local jurisdictions and Tribal entities be dependent on being NIMS compliant.

Collection of Information

Title: Emergency Management Institute (EMI) Independent Study Course Enrollment Application and Test Answer Sheet.

Type of Information Collection: Revision of a currently approved information collection.

OMB Number: 1660-0046.

FEMA Forms: FEMA Form 064-0-9, Emergency Management Institute (EMI) Independent Study Course Enrollment Application.

Abstract: The IS program office collects data from FEMA Form 064-0-9 to create and update student records and provide students with credit for training completion. The system also allows FEMA to track completions and failures of course exams. The data on the electronic form will be encrypted and sent to the server to be parsed into the Independent Study database.

Affected Public: Individuals and households, business or other for-profit, not for profit institutions, Farms, Federal government, State, local or Tribal government.

Number of Respondents: 689,980.

Number of Responses: 2,069,940.

Estimated Total Annual Burden Hours: 1,034,970 hours.

Estimated Cost: The estimated annual cost to respondents for the hour burden is $25,211,869. There are no annual costs to respondents' operations and maintenance costs for technical services. There are no annual start-up or capital costs. The cost to the Federal Government is $260,893.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: January 13, 2017.
Richard W. Mattison,
Records Management Program Chief, Mission Support, Federal Emergency Management Agency, Department of Homeland Security.

[FR Doc. 2017-01283 Filed 1-18-17; 8:45 am]

BILLING CODE 9111-72-P